ENVIRONMENTAL PROTECTION AGENCY

40 CFR Part 180

[OPP-2004-0154; FRL-7368-7]

Bromoxynil, Diclofop-methyl, Dicofol, Diquat, Etridiazole, et al.; Proposed Tolerance Actions

AGENCY: Environmental Protection Agency (EPA).

ACTION: Proposed rule.

SUMMARY: EPA is proposing to revoke certain tolerances for the herbicides bromoxynil, diclofop-methyl, and paraquat; the fungicides etridiazole (terrazole) and iprodione; the miticides dicofol and propargite; and the plant growth regulator and herbicide diquat. Also, EPA is proposing to remove duplicate tolerances for the herbicides bromoxynil and picloram; the fumigant phosphine; the fungicide iprodione; the miticides dicofol and propargite; and the insecticides fenbutatin-oxide and hydramethylnon. In addition, EPA is proposing to modify certain tolerances for the insecticide hydramethylnon; the herbicides bromoxynil, paraquat, and triclopyr; the fungicides etridiazole, folpet, iprodione, and triphenyltin hydroxide (TPTH); the miticides dicofol and propargite; and the plant growth regulator and herbicide diquat. Moreover, EPA is proposing to establish new tolerances for the herbicides bromoxynil, paraquat, and picloram; the fungicides etridiazole, folpet, and TPTH; the miticides dicofol and propargite; the insecticide fenbutatin-oxide; and the plant growth regulator and herbicide diquat. The regulatory actions proposed in this document are part of the Agency's reregistration program under the Federal Insecticide, Fungicide, and Rodenticide Act (FIFRA), and the tolerance reassessment requirements of the Federal Food, Drug, and Cosmetic Act (FFDCA) section 408(q), as amended by the Food Quality Protection Act (FQPA) of 1996. By law, EPA is required by August 2006 to reassess the tolerances in existence on August 2, 1996. No tolerance reassessments will be counted at the time of a final rule because tolerances in existence at FQPA that are associated with actions proposed herein were previously counted as reassessed at the time of the completed Registration Eligibility Decision (RED), Report on FQPA Tolerance Reassessment Progress and Interim Risk Management Decision (TRED), or Federal Register action.

DATES: Comments must be received on or before October 4, 2004.

ADDRESSES: Submit your comments, identified by docket ID number OPP-2004-0154, by one of the following methods:

• Federal eRulemaking Portal: http://www.regulations.gov/. Follow the on-line instructions for submitting comments.

• Agency Website: http://www.epa.gov/edocket/. EDOCKET, EPA's electronic public docket and comment system, is EPA's preferred method for receiving comments. Follow the on-line instructions for submitting comments.

• E-mail: Comments may be sent by e-mail to opp-docket@epa.gov, Attention: Docket ID Number OPP-2004-0154.

• Mail: Public Information and Records Integrity Branch (PIRIB) (7502C), Office of Pesticide Programs (OPP), Environmental Protection Agency, 1200 Pennsylvania Ave., NW., Washington, DC 20460-0001, Attention: Docket ID Number OPP-2004-0154.

• Hand Delivery: Public Information and Records Integrity Branch (PIRIB), Office of Pesticide Programs (OPP), Environmental Protection Agency, Rm. 119, Crystal Mall #2, 1801 South Bell St., Arlington, VA, Attention: Docket ID Number OPP-2004-0154. Such deliveries are only accepted during the Docket's normal hours of operation, and special arrangements should be made for deliveries of boxed information.

Instructions: Direct your comments to docket ID number OPP-2004-0154. EPA's policy is that all comments received will be included in the public docket without change and may be made available online at http://www.epa.gov/edocket/, including any personal information provided, unless the comment includes information claimed to be Confidential Business Information (CBI) or other information whose disclosure is restricted by statute. Do not submit information that you consider to be CBI or otherwise protected through EDOCKET, regulations.gov, or e-mail. The EPA EDOCKET and the regulations.gov websites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102) (FRL-7181-7).

Docket: All documents in the docket are listed in the EDOCKET index at http://www.epa.gov/edocket/. Although listed in the index, some information is not publicly available, i.e., CBI or other information whose disclosure is restricted by statute. Certain other material, such as copyrighted material, is not placed on the Internet and will be publicly available only in hard copy form. Publicly available docket materials are available either electronically in EDOCKET or in hard copy at the Public Information and Records Integrity Branch (PIRIB), Rm. 119, Crystal Mall #2, 1801 South Bell St., Arlington, VA. This Docket Facility is open from 8:30 a.m. to 4 p.m., Monday through Friday, excluding legal holidays. The Docket telephone number is (703) 305-5805.

FOR FURTHER INFORMATION CONTACT: Joseph Nevola, Special Review and Reregistration Division (7508C), Office of Pesticide Programs, Environmental Protection Agency, 1200 Pennsylvania Ave, NW., Washington, DC 20460-0001; telephone number: (703) 308-8037; e-mail address:nevola.joseph@epa.gov.

SUPPLEMENTARY INFORMATION:

I. General Information

A. Does This Action Apply to Me?

You may be potentially affected by this action if you are an agricultural producer, food manufacturer, or pesticide manufacturer. Potentially affected entities may include, but are not limited to:

• Crop production (NAICS 111)

• Animal production (NAICS 112)

• Food manufacturing (NAICS 311)

• Pesticide manufacturing (NAICS 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit IIA. If you have any questions regarding the applicability of this action to a particular entity, consult the person listed under FOR FURTHER INFORMATION CONTACT.

B. How Can I Access Electronic Copies of This Document and Other Related Information?

In addition to using EDOCKET (http://www.epa.gov/edocket/), you may access this Federal Register document electronically through the EPA Internet under the “Federal Register” listings at http://www.epa.gov/fedrgstr/. A frequently updated electronic version of 40 CFR part 180 is available at E-CFR Beta Site Two at http://www.gpoaccess.gov/ecfr/.

C. What Should I Consider as I Prepare My Comments for EPA?

Submitting CBI. Do not submit this information to EPA through EDOCKET, regulations.gov, or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

Tips for preparing your comments. When submitting comments, remember to:

i. Identify the rulemaking by docket number and other identifying information (subject heading, Federal Register date, and page number).

ii. Follow directions. The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

D. What Can I do if I Wish the Agency to Maintain a Tolerance That the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f) if needed. The order would specify data needed and the time frames for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke, remove, modify, and establish specific tolerances for residues of the insecticides fenbutatin-oxide and hydramethylnon, the herbicides bromoxynil, diclofop-methyl, paraquat, picloram, and triclopyr; the fumigant phosphine; the fungicides etridiazole, folpet, iprodione, and triphenyltin hydroxide (TPTH); the miticides dicofol and propargite, and the plant growth regulator and herbicide diquat in or on commodities listed in the regulatory text.

EPA is proposing these tolerance actions to implement the tolerance recommendations made during the reregistration and tolerance reassessment processes (including follow-up on canceled or additional uses of pesticides). As part of the reregistration and tolerance reassessment processes, EPA is required to determine whether each of the amended tolerances meets the safety standards under the FQPA. The safety finding determination of “reasonable certainty of no harm” is found in detail in each RED and Report on FQPA Tolerance Reassessment Progress and Interim Risk Management Decision (TRED) for the active ingredient. REDs and TREDs propose certain tolerance actions to be implemented to reflect current use patterns, to meet safety findings and change commodity names and groupings in accordance with new EPA policy. Printed copies of the REDs and TREDs may be obtained from EPA's National Service Center for Environmental Publications (EPA/NSCEP), P.O. Box 42419, Cincinnati, OH 45242-2419, telephone 1-800-490-9198; fax 1-513-489-8695; internet at http://www.epa.gov/ncepihom/ and from the National Technical Information Service (NTIS), 5285 Port Royal Road, Springfield, VA 22161, telephone 1-800-553-6847 or 703-605-6000; internet at http://www.ntis.gov/. Electronic copies of REDs and TREDs are available on the internet at http://www.epa.gov/pesticides/reregistration/status.htm.

Explanations for proposed modifications in tolerances can be found in the RED and TRED document and in more detail in the Residue Chemistry Chapter document which supports the RED and TRED. Copies of the Residue Chemistry Chapter documents are found in the Administrative Record and hard copies are available in the public docket for this rule, while electronic copies are available through EPA's electronic public docket and comment system, EPA Dockets at http://www.epa.gov/edocket/. You may search for docket number OPP-2004-0154 then click on that docket number to view its contents.

EPA has determined that the aggregate acute exposure and risk and the aggregate chronic exposure and risk are not of concern for the above mentioned pesticide active ingredients based upon the target data base required for reregistration, the current guidelines for conducting acceptable studies to generate such data, published scientific literature, and the data identified in the RED or TRED which lists the submitted studies that the Agency found acceptable.

With respect to the tolerances that are proposed in this document to be raised, EPA has found that these tolerances are safe in accordance with FFDCA section 408(b)(2)(A), and that there is a reasonable certainty that no harm will result to infants and children from aggregate exposure to the pesticide chemical residues, in accordance with section 408(b)(2)(C). These findings are found in detail in each RED. The references are available for inspection as described in this document under SUPPLEMENTARY INFORMATION.

In addition, EPA is proposing to revoke certain tolerances because these pesticides are not registered under FIFRA for uses on the commodities. The registrations for these pesticide chemicals were canceled because the registrant failed to pay the required maintenance fee and/or the registrant voluntarily canceled one or more registered uses of the pesticide. It is EPA's general practice to propose revocation of those tolerances for residues of pesticide active ingredients on crop uses for which there are no active registrations under FIFRA, unless any person in comments on the proposal indicates a need for the tolerance to cover residues in or on imported commodities or domestic commodities legally treated.

1. Bromoxynil. Because flax straw is no longer a regulated feed item, the tolerance for bromoxynil residue is no longer needed. Therefore, EPA is proposing to revoke the tolerance in 40 CFR 180.324(a)(1) for “flax, straw.” Also, EPA is proposing to remove the commodity tolerances in 40 CFR 180.324(a)(1) for residues of bromoxynil in or on “corn, stover” which was previously termed corn, fodder (dry) in the RED; “corn, fodder (green);” and “corn, grain” because these tolerances are no longer needed since their uses are covered by the existing tolerances for corn, field, stover and corn, grain, field. In addition, EPA is proposing to remove the duplicate tolerance for “corn, field, stover” because that use is covered by the remaining tolerance for corn, field, stover. Further, based on field trial data that indicate residues of bromoxynil as high as 0.14 ppm in or on corn stover, the Agency determined that the tolerance for corn, field, stover should be increased to 0.2 ppm and a tolerance should be established for corn, pop, stover at 0.2 ppm. Therefore, EPA is also proposing in 40 CFR 180.324(a)(1) to increase the tolerance for “corn, field, stover” from 0.1 to 0.2 ppm and establish a tolerance for residues of bromoxynil in or on “corn, pop, stover” at 0.2 ppm.

Because the time-limited tolerances in 40 CFR 180.324(b) for timothy, hay and timothy, forage have expiration/revocation dates that have since passed, EPA is proposing to remove the existing paragraph and table, and reserve the section.

Based on field trial data that indicate residues of bromoxynil in or on alfalfa hay as high as 0.38 ppm, the Agency determined that the tolerance for alfalfa hay should be increased to 0.5 ppm. Therefore, EPA is proposing to revise the commodity tolerance “alfalfa, seedling”in 40 CFR 180.324(a)(1) at 0.1 parts per million (ppm) to “alfalfa, forage,” and “alfalfa, hay” and maintain the tolerance for alfalfa, forage at 0.1 ppm, while increasing the tolerance for alfalfa, hay to 0.5 ppm.

Based on field trial data that indicate residues of bromoxynil in or on grass forage and hay as high as 2.9 and 2.4 ppm, respectively, the Agency determined that the tolerances for grass forage and hay should be increased to 3.0 ppm. Therefore, EPA is proposing to revise the commodity terminologies “canarygrass, annual, seed” and “grass, canary, annual, straw” in 40 CFR 180.324(a)(1) to “grass, forage” and “grass, hay,” respectively, and increase the tolerance for each from 0.1 ppm to 3.0 ppm.

Based on field trial data that indicate residues of bromoxynil in or on barley straw as high as 3.9 ppm, and translating barley data to oat straw, the Agency determined that the tolerances for barley straw and oat straw should be increased to 4.0 ppm. Therefore, EPA is proposing to increase the tolerances in 40 CFR 180.324(a)(1) for residues of bromoxynil in or on “barley, straw” from 0.1 to 4.0 ppm, and “oat, straw” from 0.1 to 4.0 ppm.

Based on field trial data that indicate residues of bromoxynil in or on wheat forage and straw as high as 0.6 and 1.2 ppm, respectively, and translating wheat data to rye, the Agency determined that the tolerances for both rye and wheat forage should be increased to 1.0 ppm, and both rye and wheat straw should be increased to 2.0 ppm. Therefore, EPA is proposing to increase the tolerances in 40 CFR 180.324(a)(1) for residues of bromoxynil in or on “rye, forage” from 0.1 to 1.0 ppm; “rye, straw” from 0.1 to 2.0 ppm; “wheat, forage” from 0.1 to 1.0 ppm; and “wheat, straw” from 0.1 to 2.0 ppm.

Based on field trial data that indicate residues of bromoxynil in or on barley forage, and translating barley data to oat, the Agency determined that the tolerance for oat forage should be increased to 0.3 ppm. Therefore, EPA is proposing to increase the tolerance in 40 CFR 180.324(a)(1) for residues of bromoxynil in or on “oat, forage” from 0.1 to 0.3 ppm.

Based on field trial data that indicate residues of bromoxynil in or on sorghum forage and stover as high as 0.29 and 0.14 ppm, respectively, the Agency determined that the tolerances for sorghum forage and stover should be increased to 0.5 and 0.2 ppm, respectively. Therefore, EPA is proposing to increase the tolerance in 40 CFR 180.324(a)(1) for residues of bromoxynil in or on“sorghum, forage” from 0.1 to 0.5 ppm and revise the commodity terminology to “sorghum, grain, forage;”and “sorghum, grain, stover” from 0.1 to 0.2 ppm.

Based on field trial data that indicate residues of bromoxynil in or on grain of barley, corn, sorghum, and wheat at <0.02 ppm and translating barley data to oat grain and rye grain, the Agency determined that the grain tolerances for barley, field corn; oat; rye; sorghum; and wheat should be decreased to 0.05 ppm and a tolerance should be established for corn, pop, grain at 0.05 ppm. Therefore, EPA is proposing to decrease the tolerances in 40 CFR 180.324(a)(1) from 0.1 to 0.05 ppm, for the following: “barley, grain;” “oat, grain;” “rye, grain;” “sorghum, grain;” “wheat, grain;” “corn, grain, field” and to revise the commodity terminology for “corn, grain, field” to read “corn, field, grain.” Also in 40 CFR 180.324(a)(1), EPA is proposing to establish a tolerance for residues of bromoxynil in or on “corn, pop, grain” at 0.05 ppm.

Because residues of bromoxynil are detectable in aspirated grain fractions of wheat (highest), corn, and sorghum, the Agency determined that a tolerance should be established at 0.3 ppm. Therefore, EPA is proposing to establish a tolerance in 40 CFR 180.324(a)(1) for residues of bromoxynil in or on “grain, aspirated fractions” at 0.3 ppm.

Based on residue data for hay of wheat and barley that indicate residues of bromoxynil as high as 3.2 ppm for wheat, but not exceeding 9.0 ppm for barley, and translating barley data to oat hay, the Agency determined that tolerances should be established for wheat hay at 4.0 ppm, barley hay at 9.0 ppm, and oat, hay at 9.0 ppm. Therefore, EPA is proposing to establish tolerances in 40 CFR 180.324(a)(1) for residues of bromoxynil in or on “barley, hay” at 9.0 ppm, “oat, hay” at 9.0 ppm, and “wheat, hay” at 4.0 ppm.

The 1998 Bromoxynil RED recommended that the commodity terminology for corn, forage, field (green) be revised to read corn, field, forage and the tolerance be increased from 0.1 to 0.3 ppm based on residue data for corn forage. However, at that time, no tolerance for corn, forage, field (green) existed in 40 CFR 180.324(a)(1). Therefore, EPA is proposing to establish a tolerance in 40 CFR 180.324(a)(1) for “corn, field, forage” at 0.3 ppm.

In addition, EPA is proposing to revise commodity terminology in 40 CFR 180.324 to conform to current Agency practice as follows: “mint hay” to “peppermint, hay” and “spearmint, hay.”

2. Diclofop-methyl. As noted in the September 2000 RED, uses of diclofop-methyl on lentils and dry peas have been deleted from registered labels. The use on lentils may have been canceled since 1985. On October 26, 1998 (63 FR 57067)(FRL-6035-6), EPA responded in a final rule to a comment from the European Union (EU) which requested that the tolerances for lentils (now termed lentil, seed) and pea seeds (dry) not be revoked because at that time they believed that EPA had not clarified in general what data are necessary to support tolerances for import purposes. At that time, EPA did not revoke these tolerances. However, since then, EPA has published a guidance concerning submissions for pesticide import tolerance support and residue data for imported food as described in Unit III. Now that data requirements for import tolerances have been clearly stated and the EU's request for information has been satisfied, EPA is proposing to revoke the tolerances in 40 CFR 180.385 for lentil, seed and pea seeds (dry). This proposed rule will again give interested persons the opportunity to come forward to support the maintenance of tolerances which are proposed herein for revocation and submit any data so that EPA can make safety findings under FFDCA.

Also, in support of tolerance reassessment, the registrant developed a new enforcement method (HRAV-14 GLC/ECD) and subjected a ruminant metabolism study to independent laboratory validation. However, EPA has not yet determined that the newly submitted method is valid. The current FDA enforcement method for diclofop-methyl is the Pesticide Analytical Manual (PAM)-Volume II, which does not detect a metabolite of concern, diclofop acid. Therefore, at this time, EPA will not propose to establish any new tolerances that are recommended in the diclofop-methyl RED. The Agency will address establishing such tolerances in a future document in the Federal Register.

3. Dicofol. EPA is proposing to redesignate the dicofol tolerance expression for plant commodities in 40 CFR 180.163(a) to (a)(1), separately from the animal tolerances, and to revise the expression in terms of the combined residues of 1,1-bis(4-chlorophenyl) -2,2,2-trichloroethanol and 1-(2-chlorophenyl) -1-(4-chlorophenyl)-2,2,2-trichloroethanol. Because dicofol metabolites are the residues of concern for animals, EPA is proposing to redesignate animal tolerances separately from plant tolerances, from 40 CFR 180.163(a) to (a)(2) and for tolerances to be expressed in terms of the combined residues of 1,1-bis(4-chlorophenyl)-2,2,2- trichloroethanol and its metabolites, 1-(2-chlorophenyl)-1-(4-chlorophenyl) -2,2,2-trichloroethanol, 1,1-bis(4-chlorophenyl)-2,2- dichloroethanol, and 1-2(-chlorophenyl)-1- (4-chlorophenyl)-2,2-dichloroethanol.

EPA is proposing to revoke the commodity tolerances in 40 CFR 180.163(a)(1) for residues of dicofol in or on “fig” because the registration for that use was canceled in October 1989 due to non-payment of annual registration maintenance fees. Also, EPA is proposing to remove “hazelnuts” because this tolerance is covered by the tolerance on filbert, and to remove “hay, spearmint” because this tolerance is covered by the tolerance on spearmint, hay.

Based on field trial data show that residues of dicofol were as high as 6.7 ppm in apples and in one duplicate sample 10.8 ppm in pears (6.8 ppm in pears for the other duplicate sample), the Agency determined that a crop group tolerance of 10.0 ppm is appropriate. Therefore, EPA is proposing to combine the commodity tolerances for “apple,” “crabapple,” “pear,” and “quince,” each at 5 ppm in 40 CFR 180.163(a)(1) under the crop group terminology “fruit, pome, group 11” and increase the tolerance to 10.0 ppm.

Based on field trial data show that residues of dicofol were as high as 0.84 ppm in plums, 3.08 ppm in cherries, and 3.79 ppm in peaches, the Agency determined that a crop group tolerance of 5.0 ppm is appropriate. Therefore, EPA is proposing to combine the commodity tolerances for “apricot” at 10 ppm; “cherry” at 5 ppm, “nectarine” at 10 ppm, “peach” at 10 ppm, and “plum, prune, fresh” at 5 ppm, in 40 CFR 180.163(a)(1) under the crop group terminology “fruit, stone, group 12” and decrease the tolerance to 5.0 ppm.

EPA is proposing to combine the commodity tolerances for “blackberry,” “boysenberry,” “dewberry,” “loganberry,” and “raspberry,”each at 5 ppm in 40 CFR 180.163(a)(1) under the crop subgroup terminology “caneberry subgroup 13A” and maintain the tolerance at 5 ppm, based on new field trials.

Based on field trial data show that residues of dicofol were as high as 0.35 ppm in melons, 0.45 ppm in cucumbers, and 1.05 ppm in summer squash, the Agency determined that a crop group tolerance of 2.0 ppm is appropriate. Therefore, EPA is proposing to combine the commodity tolerances for “cantaloups,” “cucumber,” “melon,” “muskmelon,” “pumpkin,” “squash, summer;” “squash, winter;” and “watermelon,” each at 5 ppm in 40 CFR 180.163(a)(1) under the crop group terminology “vegetable, cucurbit, group 9” and decrease the tolerance to 2.0 ppm.

Based on field trial data show that residues of dicofol were as high as 1.34 ppm in lemon, 3.55 ppm in oranges, and 5.26 ppm in grapefruit, the Agency determined that a crop group tolerance of 6.0 ppm is appropriate. Therefore, EPA is proposing to combine the commodity tolerances for “grapefruit,” “kumquat,” “lemon,” “lime,” “orange, sweet” and “tangerine” in 40 CFR 180.163(a)(1), each at 10 ppm, under the commodity terminology “fruit, citrus, group 10” and decrease the tolerance to 6.0 ppm.

Based on field trial data show that residues of dicofol were as high as 0.46 ppm in tomatoes and 1.15 ppm in peppers, the Agency determined that a crop group tolerance of 2.0 ppm is appropriate. Therefore, EPA is proposing to combine the commodity tolerances for “eggplant,” “pepper,” “pimento,” and “tomato” in 40 CFR 180.163(a)(1), each at 5 ppm, under the crop group terminology “vegetable, fruiting, group 8” and decrease the tolerance to 2.0 ppm, based on new field trials.

Based on field trial data that indicate residues of dicofol as high as 0.46 ppm in dry beans and 2.09 ppm in succulent beans, the Agency has determined that the appropriate tolerances are 0.5 ppm for dry beans and 3.0 ppm for succulent beans. Therefore, EPA is proposing in 40 CFR 180.163(a)(1) to decrease the tolerances for “bean (dry form)” from 5 to 0.5 ppm and revise the commodity name to “bean, dry, seed;” and replace “bean, snap, succulent” and “bean, lima, succulent” with “bean, succulent” and decrease the tolerance from 5 to 3.0 ppm.

Pecan and walnut field trial data show that residues of dicofol were non-detectable. The Agency determined that the data translated to other nuts and that the tolerances for butternut, chestnut, filbert, hickory nut, macadamia nut, pecan, and walnut should be at 0.1 ppm. Therefore, EPA is proposing in 40 CFR 180.163(a)(1) to decrease the tolerances for “nut, macadamia” from 5 to 0.1 ppm;“ ”butternut“ from 5 to 0.1 ppm, “chestnut” from 5 to 0.1 ppm, “filbert” from 5 to 0.1 ppm, “nut, hickory” from 5 to 0.1 ppm, “pecans” from 5 to 0.1 ppm and revise the commodity name to “pecan;” and “walnut” from 5 to 0.1 ppm, all based on available data.

Based on field trial data that indicate residues of dicofol as high as 64.3 ppm on dried hops, the Agency has determined that the tolerance should be for dried hops at 65.0 ppm. Therefore, EPA is proposing to increase the tolerance in 40 CFR 180.163(a)(1) for “hop” from 30 to 65.0 ppm and revise the commodity tolerance to “hop, dried cones” because the raw agricultural commodity (RAC) is redefined.

Because available data show that residues of dicofol were as high as 9.8 ppm on strawberries, the Agency determined that the tolerance should be at 10.0 ppm. Therefore, EPA is proposing to increase the tolerance in 40 CFR 180.163(a)(1) for “strawberry” from 5 to 10.0 ppm.

Based on highest average field trial (HAFT) residues of 5.54 ppm on apples, 3.16 ppm on oranges, 0.06 ppm on cotton, 3.02 ppm on grapes, and 17.6 ppm on mint, 29.1 ppm on plucked tea leaves, and available processing data showing average concentration factors of 6.6x in wet apple pomace, 3.7x in dried orange pulp, 62.8x in orange oil, 4.9x in refined cotton oil, 6.6x in raisins, 1.6x in mint oil, and 1.6x in dried tea, the Agency determined that tolerances for dicofol are warranted as follows: wet apple pomace at 38 ppm, dried citrus pulp at 12 ppm, citrus oil at 200 ppm, refined cotton oil at 0.5 ppm, raisins at 20.0 ppm, peppermint oil at 30 ppm, spearmint oil at 30 ppm, tea, plucked tea leaves at 30.0 ppm, and dried tea at 50 ppm. Therefore, EPA is proposing to increase the tolerance in 40 CFR 180.163(a)(1) for “tea, dried” from 45 ppm to 50.0 ppm and establish tolerances in 40 CFR 180.163(a)(1) for “apple, wet pomace” at 38.0 ppm, “citrus, dried pulp” at 12.0 ppm, “citrus, oil” at 200.0 ppm, “cotton, refined oil” at 0.5 ppm, “grape, raisin” at 20.0 ppm, “peppermint, oil” at 30.0 ppm, “spearmint, oil” at 30.0 ppm, and “tea, plucked leaves” at 30.0 ppm.

A new tolerance for the processed commodity prunes as “plum, prune, dried” at 3.0 ppm is not needed because that use is covered by the proposed combination of stone fruits into a group tolerance at 5.0 ppm, as described above.

Based on hen metabolism and feeding data and on residues in cottonseed meal (20% diet X 0.1 ppm residue), the Agency has determined that tolerances should be established at 0.1 ppm for poultry fat, meat, and meat byproducts. The tolerance for eggs should be decreased to 0.05 ppm for compatibility with Codex. Therefore, EPA is proposing to establish tolerances in 40 CFR 180.163(a)(2) for “poultry, fat;” “poultry, meat;” and “poultry, meat byproducts;” each at 0.1 ppm and “egg” at 0.05 ppm.

Based on ruminant metabolism and feeding data, the Agency determined that tolerances for fat of cattle, goats, hogs, horses and sheep should be established at 50.0 ppm; meat and meat byproducts, except liver of cattle, goats, hogs, horses and sheep should be established at 3.0 ppm; and liver of cattle, goats, hogs, horses and sheep should be established at 5.0 ppm. Also, the Agency determined that the tolerance for milk should reflect dicofol residues of 0.75 ppm in whole milk corrected by a factor of 30x to account for concentration in milk such that 22.0 ppm is appropriate. Therefore, EPA is proposing to establish tolerances in 40 CFR 180.163(a)(2) for the following: “cattle, meat;” “cattle, meat byproducts, except liver;” “goat, meat;” “goat, meat byproducts, except liver;” “hog, meat;” “hog, meat byproducts, except liver;” “horse, meat;” “horse, meat byproducts, except liver;” “sheep, meat;” and “sheep, meat byproducts, except liver;” each at 3.0 ppm; “cattle, liver;” “goat, liver;” “hog, liver;” “horse, liver;” and “sheep, liver;” each at 5.0 ppm; “cattle, fat;” “goat, fat;” “hog, fat;” “horse, fat;” and “sheep, fat;” each at 50.0 ppm; and “milk” at 22.0 ppm.

EPA is proposing to revise commodity terminology in 40 CFR 180.163 to conform to current Agency practice as follows: “hay, peppermint” to “peppermint, hay.”

4. Diquat dibromide. The Diquat dibromide RED was completed in July 1995 and the existing tolerances were reassessed according to the FQPA standard in the April 2002 TRED. EPA has determined that the tolerance expression in 40 CFR 180.226(a)(1) should be amended by defining diquat as both a plant growth regulator and herbicide, and correcting the chemical name. Therefore, EPA is proposing in 40 CFR 180.226(a)(1) to amend the tolerance expression to read “ . . . residues of the plant growth regulator and herbicide diquat, [6,7-dihydrodipyrido (1,2-a:2′,1′-c) pyrazinediium] . . .” .

On July 1, 2003, (68 FR 39427) (FRL-7308-9) EPA revised potato, waste, dried in 40 CFR 180.226(a)(1) to potato, processed potato waste, but should have revised it to potato, processed potato waste, dried. Processed, dried potato waste is no longer a significant animal feed item. Therefore, EPA is proposing to revoke the tolerances for potato, processed potato waste in § 180.226(a)(1) and processed, dried potato waste in § 180.226(a)(6) because the associated commodities are no longer significant animal feed items and these tolerances are therefore no longer needed.

In order to achieve compatibility with CODEX (see Unit III., below), EPA is proposing to increase the tolerances in 40 CFR 180.226(a)(1) for egg and fat, meat, and meat byproducts of cattle, goats, hogs, horses, poultry, and sheep, from 0.02 to 0.05 ppm.

Available data indicate that residues of diquat in fish and shellfish will exceed the established tolerances at current maximum registered use patterns. In order to cover all residues of diquat which may occur as a result of the currently registered uses, increasing the tolerances to 2.0 ppm for fish and 20.0 ppm for shellfish is appropriate. Therefore, EPA is proposing in 40 CFR 180.226(a)(2)(i) to increase the tolerances for residues of diquat on “fish” from 0.1 to 2.0 ppm and “shellfish” from 0.1 to 20.0 ppm.

The available data concerning diquat residues following irrigation indicate that residues in/on blackberry, cowpea, orange, strawberry, mustard greens, pasture grass, and tomato may exceed the current tolerances for the respective crop groups and that tolerances should be increased to 0.05 ppm for citrus fruits, small fruits, fruiting vegetables, legume vegetables, and Brassica leafy vegetables, and to 0.20 ppm for grass forage. Therefore, EPA is proposing in 40 CFR 180.226(a)(2)(i) to increase the tolerances for residues of diquat on “fruit, citrus, group 10” from 0.02 to 0.05 ppm; “fruit, small” from 0.02 to 0.05 ppm and revise the terminology to “fruit, small and berry group;” “vegetable, fruiting, group 8” from 0.02 to 0.05 ppm; “vegetables, leafy” from 0.02 to 0.05 ppm and revise the terminology to “vegetable, leafy, except brassica, group 4” and “vegetable, brassica, leafy, group 5;” and “vegetables, seed and pod” from 0.02 to 0.05 ppm and revise the terminology to “vegetable, seed and pod;” and “grass, forage” from 0.1 to 0.2 ppm and revise the terminology to “grass, forage, fodder and hay, group 17.”

While no data are available for the miscellaneous commodities avocado, cottonseed, hops, and sugarcane for which tolerances currently exist, the Agency determined that data for other crops could be translated. Based on the highest residues found in other irrigated crops resulting from irrigation with water containing diquat residues, the Agency determined that tolerances of 0.20 ppm are appropriate for avocado, cottonseed, hops, and sugarcane. Therefore, EPA is proposing in 40 CFR 180.226(a)(2)(i) to increase the tolerances for residues of diquat in or on “avocado,” “cotton, undelinted seed,” and “sugarcane, cane;” each from 0.02 to 0.2 ppm, and “hop, dried cone” from 0.02 to 0.2 ppm and revise the terminology to “hop, dried cones.”

Because available data show that residues of diquat were as high as 1.6 ppm on sorghum grain and 0.16 ppm on soybean, the Agency determined that tolerances should be established for sorghum grain at 2.0 ppm, and both soybean and foliage of legume vegetables at 0.2 ppm. Therefore EPA is proposing to establish tolerances in 40 CFR 180.226(a)(1) for residues of diquat in or on “sorghum, grain, grain” at 2.0 ppm, “soybean, seed” at 0.2 ppm, and increase the tolerance for “vegetable, foliage of legume, group 7” from 0.1 to 0.2 ppm.

In addition, soybean processing data indicate that residues of diquat concentrated about 3x in soybean hulls processed from soybean bearing detectable residues. No concentration of residues was observed in other soybean processed fractions. Based on a recommended tolerance of 0.2 ppm for soybean and a concentration factor of about 3x in soybean hulls, the Agency determined that a tolerance of 0.6 ppm is appropriate for residues of diquat on soybean hulls. Therefore, EPA is proposing to establish a tolerance for residues of diquat in § 180.226(a)(3) for “soybean, hulls” at 0.6 ppm.

Based on field trial data on alfalfa grown for seed show that residues of diquat were as high as 2.4 ppm, the Agency determined that a tolerance of 3.0 ppm is appropriate and should be established. Therefore, EPA is proposing to establish a tolerance in § 180.226(a)(1) for “alfalfa, seed” at 3.0 ppm. However, a tolerance for “clover, seed” is not needed because clover seed is no longer considered to be a significant food or feed item.

EPA is proposing to revise commodity terminology to conform to current Agency practice as follows: in 40 CFR 180.226(a)(2)(i), “grain, crop” is proposed to be changed to read “grain, cereal, group 15” and “grain, cereal, forage, fodder and straw, group 16;” and in 40 CFR 180.226(a)(3), “coffee” is proposed to be changed to read “coffee, bean.”

5. 5-Ethoxy-3-(trichloromethyl)-1,2,4-thiadiazole (Etridiazole or Terrazole). Based on available data, EPA determined that there is no reasonable expectation of finite residues of etridiazole and its metabolites on or in animal livestock commodities. These tolerances are no longer needed under 40 CFR 180.6(a)(3). Therefore, EPA is proposing to revoke the commodity tolerances in 40 CFR 180.370(a) for residues of etridiazole and its monoacid metabolite in or on “cattle, fat;” “cattle, meat byproducts;” “cattle, meat;” “egg;” “goat, fat;” “goat, meat byproducts;” “goat, meat;” “hog, fat;” “hog, meat byproducts;” “hog, meat;” “horse, fat;” “horse, meat byproducts;” “horse, meat;” “milk;” “poultry, fat;” “poultry, meat byproducts;” “poultry, meat;” “sheep, fat;” “sheep, meat byproducts;” and “sheep, meat.”

EPA canceled the registrations for etridiazole use on tomatoes and strawberries. On October 26, 1998 (63 FR 57067) (FRL-6035-6) in a final rule, EPA responded to a comment received from the European Union, which requested that the tolerance for strawberry not be revoked and asked for a clarification of methodology for commitment in support of tolerance retention. At that time, EPA did not revoke the tolerance for strawberry. However, since then, EPA has published a guidance concerning submissions for pesticide import tolerance support and residue data for imported food as described in Unit III. Therefore, EPA is proposing to revoke the tolerance for strawberry in 40 CFR 180.370. However, EPA will not propose to revoke the tolerance for “tomato” at this time. At the time of the RED, the registrant had committed to provide additional data in order to maintain the tomato tolerance for import purposes. Since the RED, the registrant has expressed an interest in amending one or more of its existing U.S. registrations in order to add tomato for domestic use and supporting that use with data.

The Agency determined that metabolism data at exaggerated rates of etridiazole seed treatments on cotton, soybean, and wheat would support seed treatment uses on barley, beans, corn, cotton peanuts, peas, safflower, sorghum, soybeans, and wheat. Residues of etridiazole per se were non-detectable on soybeans and wheat, but as high as 0.06 ppm on cotton. Residues of the monoacid metabolite are expected not to exceed 0.04 ppm based on the metabolism data from seed treated at 1-fold amounts. Based on these data, the Agency determined that appropriate tolerances for combined residues of etridiazole and its monoacid metabolite for treated seed should be set at the combined limit of quantitation (0.1 ppm) of the available enforcement method. Therefore, EPA is proposing to increase the tolerances in 40 CFR 180.370 for “wheat, grain” from 0.05 to 0.1 ppm, and “corn, field, grain” from 0.05 to 0.1 ppm. Also, EPA is proposing to decrease the tolerance in 40 CFR 180.370 for “cotton, undelinted seed” from 0.20 to 0.1 ppm based on available data. In addition, based on available data, EPA is proposing to establish tolerances in 40 CFR 180.370 at 0.1 ppm for “barley, grain;” “barley, hay;” “cotton, gin byproducts;” “peanut;” “safflower, seed;” “sorghum, grain, forage;” “sorghum, grain, grain;” “vegetable, foliage of legume, group 7;” and “vegetable, legume, group 6.” However, because peanut hay is no longer considered to be a significant livestock feed commodity, the establishment of a peanut hay tolerance is no longer needed.

In order to conform to current Agency practice, in 40 CFR 180.370, EPA is proposing to revise “corn, forage” to “corn, field, forage” and “corn, sweet, forage,” and “corn, stover” to “corn, field, stover” and “corn, sweet, stover.”

6. Fenbutatin-oxide. The Fenbutatin-oxide RED was completed in September 1994 and the existing tolerances were reassessed according to the FQPA standard in the May 2002 TRED. EPA determined that in order to better harmonize with CODEX, the fenbutatin-oxide, hexakis (2-methyl-2-phenylpropyl) distannoxane tolerance expression for plants should include the parent compound only. Therefore, EPA is proposing in 40 CFR 180.362(a) to recodify plant tolerances in § 180.362(a)(1) and animal tolerances in § 180.362(a)(2). Moreover, EPA is proposing to revise the tolerance expression such that tolerances in § 180.362(a)(1) are established for residues of hexakis (2-methyl-2-phenylpropyl) distannoxane and tolerances in § 180.362(a)(2) are established for the combined residues of hexakis (2-methyl-2-phenylpropyl) distannoxane and its organotin metabolites dihydroxybis(2-methyl-2-phenylpropyl)stannane, and 2-methyl-2-phenylpropylstannoic acid.

Also, EPA is proposing to remove the tolerance in 40 CFR 180.362 for “plum, prune” because that tolerance is no longer needed since that use is covered by the plum tolerance. In addition, EPA is proposing to revise the commodity tolerance terminology “plum” to “plum, prune, fresh.”

Because available data for almond, pecan, and walnut support a crop group tolerance; EPA is proposing in 40 CFR 180.362 to reassign their individual tolerances into a group tolerance “nut, tree, group 14” and maintain the tolerance at 0.5 ppm.

The Agency determined that a tolerance on apple wet pomace should be established at 100 ppm because available apple processing data indicate that combined fenbutatin-oxide residues of concern concentrate 1.7x in wet pomace. Based on that processing data, EPA is proposing to establish a tolerance in 40 CFR 180.362(a)(1) for “apple, wet pomace” at 100.0 ppm.

In addition, EPA is proposing to revise commodity terminology in 40 CFR 180.362 to conform to current Agency practice as follows: “fruit, citrus” to “fruit, citrus, group 10;” and “milk fat” to ”milk, fat.“

7. Folpet. EPA is proposing to recodify the tolerance for ”avocado“ at 25 ppm from 40 CFR 180.191(a) into § 180.191(c) as a tolerance with regional registration because the use of folpet on avocados is limited to the state of Florida, and there is no need for a national tolerance. Additional data would be required to establish a tolerance for folpet use on avocados outside the state of Florida.

With the exception of ”avocado,“ the registrant is supporting the remaining folpet tolerances for import purposes only and EPA is proposing to designate them as import tolerances with no U.S. registrations. For some commodities, the import tolerances should be lower than the old tolerance with a U.S. registration because the import tolerances are based on different use information than that on which the previous tolerances were based. Because the registrant has committed to provide the Agency with amended foreign labels for folpet which specify the recommended use patterns in the near future, EPA is proposing modifications to certain tolerances.

Available data indicate that folpet residues ranged up to 3.67 ppm in/on apples harvested 7-10 days following the last of several applications (14 day retreatment interval) at 0.8 to 3.59 kilograms of active ingredient per hectare (kg ai/ha). The submitted international labels, however, permit higher application rates and/or shorter pre-harvest intervals (PHIs) than those represented by the data reviewed here. Based on the tested application scenarios, the Agency determined that a tolerance of 5 ppm on apple is appropriate provided that the international labels are changed so that use directions do not exceed a maximum single application rate of 3.6 kg ai/ha and a maximum seasonal application rate of 10.8 kg ai/ha. These labels should also reflect a minimum PHI of 10 days and a treatment interval of 14 days. Therefore, EPA is proposing to decrease the tolerance in 40 CFR 180.191(a) for ”apple“ from 25.0 to 5.0 ppm.

Foreign field trial data on cranberries indicate that folpet residues ranged up to 11.2 ppm in/on cranberries harvested 30 days following the last of three broadcast applications (separated by a 12- to 14-day retreatment interval) at 5.0 kg a.i./ha/application. Although the submitted data do not reflect the maximum label use pattern of folpet on cranberries (which is limited to only two applications and not three applications as tested here), the Agency accepted the current field trial data and determined that a tolerance of 15 ppm is appropriate on cranberries. Therefore, EPA is proposing to decrease the tolerance in 40 CFR 180.191(a) for ”cranberry“ from 25.0 to 15.0 ppm.

Foreign field trial data on onions indicate that folpet residues ranged up to 0.406 ppm in/on dry bulb onions harvested 7 days following the last of either three or four applications (7-day retreatment interval) of folpet at either 1.5- or 1.95 kg ai/ha per application. The submitted international labels, however, permit higher application rates and/or shorter PHIs than those represented by this data and should be amended. Based on the tested application scenarios, the Agency determined that a tolerance of 2.0 ppm is appropriate on dry bulb onions. Therefore, EPA is proposing to decrease the tolerance in 40 CFR 180.191(a) for “onion, dry bulb” from 15.0 to 2.0 ppm.

Foreign field trial data on strawberries indicate that folpet residues ranged up to 2.56 ppm in/on strawberries harvested 2 days following the last of four applications at 1.25 kg ai/ha each. The submitted international labels, however, permit higher application rates and/or shorter PHIs than those represented by the data reviewed here. Based on the tested application scenarios, the Agency determined that a tolerance of 5 ppm on strawberries is appropriate provided the use directions on the international labels do not exceed a maximum of four applications per season at up to 1.25 kg ai/application, and specify a retreatment interval of 7 days and a preharvest interval of 2 days. Therefore, EPA is proposing to decrease the tolerance in 40 CFR 180.191(a) for ”strawberry“ from 25.0 to 5.0 ppm.

Foreign field trial data on grapes indicate that folpet residues ranged up to 38.3 ppm in/on grapes harvested 14 days following the last of five applications (separated by a 5-7 day retreatment interval) at 1.49 kg ai/ha/application. The submitted international labels, however, permit higher application rates and/or shorter PHIs than those represented by this data. Based on the tested application scenarios, the Agency determined that a tolerance of 50 ppm on grape is appropriate provided that the international labels are amended so that use rates do not exceed a maximum single application rate of 1.5 kg ai/ha and a maximum seasonal rate of 8.0 kg ai/ha. These labels should also reflect a minimum PHI and retreatment interval of 7 days each. The registrant has committed to provide the foreign labels in the near future. Therefore, EPA is proposing to increase the tolerance in 40 CFR 180.191(a) for “grape” from 25 to 50.0 ppm.

No U.S. registration exists for use of folpet on raisins. However, grape processing data show that the average concentration factor from grapes to raisins for folpet residues is 1.9x. Based on an average concentration factor of 1.9x and a highest average field trial (HAFT) of 38.3 ppm, the Agency determined that for import purposes a tolerance of 80.0 ppm should be established for grape, raisin. Therefore, EPA is proposing to establish a tolerance in 40 CFR 180.191(a) for “grape, raisin” at 80.0 ppm.

The reassessment decision regarding the import tolerances for “lettuce” and “tomato” is to maintain each at its current level of 50.0 and 25.0 ppm, respectively.

EPA is considering the registrant's waiver request for additional cucumber and melon storage stability data provided the foreign labels are amended to specify the recommended use pattern. Foreign field trials for cucumbers harvested 3-7 days following the last of several applications indicate residues of folpet up to 0.699 ppm at up to 1.75 kg/ai/ha. Foreign labels need to be amended for cucumber to include a maximum single application rate of 1.75 kg ai/ha, a maximum seasonal application rate of 8.0 kg ai/ha, a minimum preharvest interval of at least 3 days, and a minimum retreatment interval of at least 7 days. Also, foreign field trials for melons harvested 7 days following the last of up to six applications (with a 5 to 7-day retreatment interval) indicate residues of folpet up to 2.3 ppm at up to 1.75 kg/ai/ha. Foreign labels need to be amended for melons to include a maximum single application rate of 1.75 kg ai/ha, a maximum seasonal application rate of 10.5 kg ai/ha, a minimum preharvest interval of at least 7 days, and a minimum retreatment interval of at least 7 days.

Based on the tested application scenarios, the tolerances for “cucumber” and “melon” should be decreased to 2.0 and 3.0 ppm, respectively. Therefore, EPA is proposing in 40 CFR 180.191(a) to decrease the tolerances for cucumber from 15.0 to 2.0 ppm, and melon from 15.0 to 3.0 ppm.

Since the folpet RED was completed in 1999, a tolerance for the purpose of importation was established in 40 CFR 180.191(a) for “hop, dried cones” (68 FR 10377, March 5, 2003)(FRL-7296-2).

8. Hydramethylnon (pyrimidinone). EPA is proposing to increase the tolerance in 40 CFR 180.395(a) on “grass (pasture and rangeland)” from 0.05 to 2.0 ppm and revise the terminology to “grass, forage” and “grass, hay;” based on available field trial data which show residues of hydramethylnon above the current tolerance level and label amendments which reflect parameters of use patterns for which field trials are available; i.e., reflect a zero day post harvest interval since that the Agency no longer allows a PHI restriction on grass. The tolerance for “grass hay (pasture and rangeland)” was recommended to be increased from 0.05 to 0.1 ppm, based on available field trial data previously discussed and label amendments which reflect a zero day post harvest interval. However, because the terminology should be revised to “grass, hay,” that tolerance at 0.1 ppm is no longer needed since it would be a duplicate covered by the proposed tolerance at 2.0 ppm. Therefore, EPA is proposing to remove the tolerance in 40 CFR 180.395(a) for grass hay (pasture and rangeland).

Since the hydramethylnon RED was completed in 1998, a tolerance was established in 40 CFR 180.395(a) for “pineapple” (68 FR 48302, August 13, 2003)(FRL-7319-5).

9. Iprodione. EPA is proposing to revoke the tolerances in 40 CFR 180.399(a)(1) for combined residues of iprodione and its metabolites in or on “bean, forage;” “peanut, hay” (previously termed peanut forage); and “peanut hay” because they are no longer considered to be significant livestock feed commodities. Further, label amendments prohibit the feeding of iprodione-treated peanut hay to livestock. Therefore, these tolerances are no longer needed. The Agency is also proposing to revoke the commodity tolerances in 40 CFR 180.399(a)(1) for residues of iprodione in or on “ginseng, dried root” because there are no processed commodities associated with ginseng, and “bean, dried, vine hay” because labels have been amended such that iprodione use on cowpeas is prohibited.

EPA is proposing to remove the individual commodity tolerances on “boysenberry” and “raspberry” in 40 CFR 180.399(a)(1) because the uses are covered by the existing tolerance on caneberries, and revise the terminology to “caneberry subgroup 13A.”

The drying of ginseng roots is a routine practice and is considered part of the harvesting process. Therefore, the dried root should be considered the raw agricultural commodity. Ginseng field trial data show combined iprodione regulated residues above the current tolerance, but below 4.0 ppm. EPA is proposing in 40 CFR 180.399(a)(1) to increase the tolerance on “ginseng, root” from 2.0 to 4.0 ppm, based on available data.

Based on grape field trials reflecting application with commercial sprayer equipment, the combined iprodione regulated residues ranged as high as 4.7 ppm with a highest average field trial (HAFT) of 4.1 ppm. However, a Codex MRL of 10.0 ppm is established for iprodione per se on grapes. Although the current U.S. tolerances includes combined residues for iprodione, its isomer, and its metabolite, data indicate that the majority of residue in/on grape consists of the parent compound. (Two samples showed detectable residues of the metabolite and none had detectable residues of the isomer). Therefore, the agency determined that a tolerance of 10.0 ppm is appropriate. Based on available residue data, EPA is proposing in 40 CFR 180.399(a)(1) to decrease the tolerance on grape from 60.0 to 10.0 ppm.

Available grape processing data are sufficient to conclude that the average concentration factor from grapes to raisins for combined iprodione regulated residues is 3.56x. Multiplication of the average concentration factor (3.56x) with a HAFT of 4.1 ppm for grapes yields an expected combined residue level of about 14.6 ppm after processing. Based on the calculated level, the Agency has determined that a tolerance of 15.0 ppm is warranted for grape, raisin. Therefore, EPA is proposing in 40 CFR 180.399(a)(1) to decrease the tolerance on “grape, raisin” from 300 to 15.0 ppm.

OPPTS Guideline 860.1500 lists cherries (sweet or sour), peach, and plum (or fresh prune) as the representative commodities for the stone fruit crop group. Peach and plum field trial data show that combined iprodione regulated residues were below the limit of quantitation (LOQ) of 0.05 ppm. Cherry field trial data show that combined iprodione regulated residues ranged from non-detectable to 0.14 ppm. In addition, label amendments restrict applications to all stone fruits to no later than last petal fall, and reduce the number of applications per season on cherries and plums from four to two. Therefore, EPA is proposing to decrease commodity tolerances in 40 CFR 180.399(a)(1) as follows: “apricot” from 20.0 to 0.2 ppm; “cherry, tart” from 20.0 to 0.2 ppm; “cherry (sweet), postharvest” from 20.0 to 0.2 ppm and revise the terminology to “cherry, sweet;” “nectarine, postharvest” from 20.0 to 0.2 ppm and revise the terminology to “nectarine;” “peach, postharvest” from 20.0 to 0.05 ppm and revise the terminology to “peach;” “plum, postharvest” from 20.0 to 0.2 ppm and revise the terminology to “plum;” and “plum, prune” from 20.0 to 0.2 ppm and revise the terminology to “plum, prune, fresh.”

Strawberry field trial data show that combined iprodione regulated residues ranged from non-detectable to a high of 0.41 ppm. In addition, label amendments reduce the number of applications per season on strawberries from four to two and the PHI was increased from zero days to no later than first flower (ca. 20 days). Therefore, EPA is proposing to amend 40 CFR 180.399(a)(1) to decrease the tolerance on strawberry from 15.0 to 0.5 ppm.

Cattle feeding data show that combined iprodione regulated residues were highest in kidney (<2.9 ppm) and liver (<2.0 ppm) at an exaggerated 7.2x feeding level, and therefore, those tolerances should be maintained at 3.0 ppm. Also, the tolerance for meat byproducts should be equivalent to the level which is highest for either meat or any individual organ for which residues were measured; i.e., increased to 3.0 ppm. Based on the available feeding data, the tolerances for meat byproducts, except kidney and liver of cattle, goats, hogs, horses, and sheep should each be increased from 0.5 to 3.0 ppm. Separate tolerances for “cattle, kidney;” “cattle, liver;” “goat, kidney;” “goat, liver;” “hog, kidney;” “hog, liver;” “horse, kidney;” “horse, liver;” “sheep, kidney” and “sheep, liver,” which currently exist in 40 CFR 180.399(a)(2) at 3.0 ppm, are no longer needed. Therefore, EPA is proposing to combine the three meat byproduct tolerances for each animal commodity by revising the terminologies to “cattle, meat byproducts;” “goat, meat byproducts;” “hog, meat byproducts;” “horse, meat byproducts;” and “sheep, meat byproducts;” and increasing each tolerance to 3.0 ppm.

Hen feeding data show that combined iprodione regulated residues were highest in liver (<7.2 ppm at a 1.27x feeding level), and therefore, the poultry, liver tolerance should be increased to 7.0 ppm. Because the tolerance for meat byproducts should be equivalent to the level which is highest for either meat or any individual organ for which residues were measured, “poultry, meat byproducts, except liver” should be increased to 7.0 ppm and revised to “poultry, meat byproducts.” Therefore, EPA is proposing in 40 CFR 180.399(a)(2) to increase the tolerances for “poultry, liver” from 5.0 to 7.0 ppm and “poultry, meat byproducts, except liver” from 1.0 to 7.0 ppm. Because separate liver and meat byproduct tolerances for poultry are no longer needed, EPA is proposing to combine them into the commodity terminology “poultry, meat byproducts” at 7.0 ppm. Also, because the hen feeding data evaluated residues for skin/fat rather than for the tolerance commodity fat, the tolerance for poultry fat will be based on data in liver. Therefore, EPA is proposing in 40 CFR 180.399(a)(2) to increase the tolerance for “poultry, fat” from 3.5 to 7.0 ppm.

10. Paraquat. EPA is proposing to revoke the tolerances in 40 CFR 180.205(a) for “mint, hay” and “mint, hay, spent” because they are no longer recognized as raw agricultural commodities, and for “peanut, hay” because it is no longer considered to be a significant livestock feed commodity, and therefore these tolerances are no longer needed. Also, EPA is proposing to remove the “(N)” designation from all entries to conform to current Agency administrative practice (“N” designation means negligible residues), and to revise the commodity terminology “coffee bean” to “coffee, bean;” “fruit, citrus” to “fruit, citrus, group 10;” “vegetable, fruiting” to “vegetable, fruiting, group 8;” and redefine the commodity terminology for “bean, forage” to “cowpea, forage” and “bean, hay” to “cowpea, hay.”

Based on field trial data that indicate residues of paraquat as high as 60, 59, and 74 ppm in or on alfalfa forage, birdsfoot trefoil forage, and clover forage, respectively, and 93, 206, and 148 ppm in or on alfalfa hay, birdsfoot trefoil hay, and clover hay, respectively, the Agency determined that the crop animal feed, non-grass group tolerances should be increased to 75.0 ppm for forage and 210.0 ppm for hay. Therefore, EPA is proposing in 40 CFR 180.205(a) to combine the commodity tolerances for “alfalfa,” “birdsfoot trefoil,” and “clover,” each at 5 ppm, under the crop group terminologies “animal feed, nongrass, group 18, forage” and “animal feed, nongrass, group 18, hay” and increase the tolerances to 75.0 and 210.0 ppm, respectively.

Based on field trial data that indicate residues of paraquat as high as 90 ppm in or on rangeland grass forage (which should be revised to grass, forage) and 40 ppm in or on pasture grass hay (which should be revised to grass, hay), the Agency determined that the tolerances should be increased to 90 ppm for grass forage and 40 ppm for grass hay. Therefore, EPA is proposing in 40 CFR 180.205(a) to revise the commodity terminology “grass, pasture” to read “grass, forage” and increase the tolerance from 5 to 90.0 ppm; and revise “grass, range” to read “grass, hay” and increase the tolerance from 5 to 40.0 ppm.

Although ruminant feeding data indicate residues of paraquat as high as only 0.31 ppm in kidney, the Agency determined that in the interest of CODEX harmonization that it is appropriate to increase the tolerance equal to the maximum residue limit (MRL) of CODEX at 0.5 ppm for the kidney of cattle, goats, hogs, horses, and sheep. Therefore, EPA is proposing in 40 CFR 180.205(a) to increase the tolerances for “cattle, kidney;” “goat, kidney;” “hog, kidney;” “horse, kidney;” and “sheep, kidney;” each from 0.3 to 0.5 ppm.

Based on field trial data indicating residues exceeding the current tolerance of 0.2 ppm, the Agency determined that the tolerance for dried hops should be increased to 0.5 ppm. Therefore, EPA is proposing in 40 CFR 180.205(a) to increase the tolerances for “hop, dried cone” from 0.2 to 0.5 ppm and revise the terminology to “hop, dried cones.”

Based on field trial data that indicate residues of paraquat as high as 0.06 ppm in or on sorghum forage, the Agency determined that the tolerance should be increased to 0.1 ppm. Therefore, EPA is proposing in 40 CFR 180.205(a) to increase the tolerance for “sorghum, forage” from 0.05 to 0.1 ppm.

Based on field trial data, the Agency determined that residues of paraquat in or on soybeans would not exceed 0.25 ppm and should be increased. Therefore, EPA is proposing in 40 CFR 180.205(a) to increase the tolerance for “soybean” from 0.05 to 0.25 ppm.

Based on field trial data that indicate residues of paraquat in or on sugar beet tops are non-detectable (<0.025 ppm), the Agency determined that the tolerance should be decreased to 0.05 ppm. Therefore, EPA is proposing in 40 CFR 180.205(a) to decrease the tolerances for “beet, sugar, tops” from 0.5 to 0.05 ppm.

Based on label restrictions against the grazing or harvesting for treated soybean forage and hay following postemergence or harvest aid use, the Agency determined that the tolerance in or on soybean forage should be decreased to 0.03 ppm and a tolerance for soybean hay should be established at 0.05 ppm. Therefore, EPA is proposing in 40 CFR 180.205(a) to decrease the tolerance for “soybean forage” from 0.05 to 0.03 ppm and revise the commodity terminology to read “soybean, forage;” and to establish a tolerance in 40 CFR 180.205(a) for “soybean, hay” at 0.05 ppm.

EPA is proposing in 40 CFR 180.205(a) to combine the commodity tolerances for “apple” and “pear” under the crop group terminology “fruit, pome, group 11” and maintain the tolerance at 0.05 ppm.

EPA is proposing in 40 CFR 180.205(a) to combine the commodity tolerances for “apricot,” “cherry,” “nectarine,” “peach,” and “plum, prune, fresh” under the crop group terminology “fruit, stone, group 12” and maintain the tolerance at 0.05 ppm based on label amendments.

EPA is proposing in 40 CFR 180.205(a) to combine the commodity tolerances for “broccoli,” “cabbage,” “cabbage, chinese,” “cauliflower,” and “collards” under the crop group terminology “vegetable, brassica, leafy, group 5” and maintain the tolerance at 0.05 ppm.

EPA is proposing in 40 CFR 180.205(a) to revise the crop group tolerance for “small fruit” into individual commodity tolerances for “cranberry” and “grape” and maintain the tolerances at 0.05 ppm.

Based on a reassessed pineapple tolerance of 0.05 ppm and pineapple processing data showing an average concentration factor of 4.5x in dried bran, the Agency determined that a tolerance should be established for pineapple process residue (a wet-waste byproduct from the fresh cut product line, which usually contains pineapple bran) at 0.25 ppm. Therefore, EPA is proposing to establish a tolerance in 40 CFR 180.205(a) for “pineapple, process residue” at 0.25 ppm.

Based on a reassessed soybean tolerance of 0.25 ppm and soybean processing data showing an average concentration factor of 6.1x in hulls, the Agency determined that a tolerance should be established for soybean hulls at 2.0 ppm. Therefore, EPA is proposing to establish a tolerance in 40 CFR 180.205(a) for “soybean, hulls” at 2.0 ppm.

Based on a reassessed sugarcane tolerance of 0.5 ppm and sugarcane processing data showing an average concentration factor of 5.5x in blackstrap molasses, the Agency determined that a tolerance should be established for sugarcane molasses at 3.0 ppm. Therefore, EPA is proposing to establish a tolerance in 40 CFR 180.205(a) for “sugarcane, molasses” at 3.0 ppm.

Based on field trial data that indicate residues of paraquat as high as 0.46 ppm in or on wheat straw, the Agency determined that a tolerance should be established at 1.0 ppm for wheat straw and because the data can translate to barley, there should also be a tolerance established at 1.0 ppm for barley straw. In addition, based on wheat data that indicate residues of paraquat in or on wheat forage will not exceed 0.5 ppm, the Agency determined that a tolerance should be established for wheat forage at 0.5 ppm. Therefore, EPA is proposing to establish tolerances in 40 CFR 180.205(a) for “barley, straw” at 1.0 ppm; “wheat, forage” at 0.5 ppm; and “wheat, straw” at 1.0 ppm.

On September 21, 2001 (66 FR48593) (FRL-6799-2), EPA published a final rule in the Federal Register which in 40 CFR 180.205(a) established tolerances for “corn, field, stover” and “corn, pop, stover” at 10.0 ppm; “corn, field, grain” and “corn, pop, grain” at 0.1 ppm; and “corn, field, forage” at 3.0 ppm; based on proposed tolerances in pesticide petition PP 5F1625 submitted by Zeneca Ag. Products and to harmonize corn, field, grain and corn, pop, grain with the Codex maximum residue limit (MRL) of 0.1 ppm for maize. In the September 2001 final rule, EPA also stated that in the food additive petition 5H5088, Zeneca had proposed a food additive tolerance for “corn flour” at 0.1 ppm which was subsequently withdrawn since EPA determined that the tolerance for corn, field, grain at 0.1 ppm is adequate to cover residues in corn flour.

EPA is proposing in 40 CFR 180.205(a) to revise the commodity terminology for “corn, fresh (inc. sweet corn), kernel plus cob with husks removed” to read “corn, sweet, kernel plus cob with husks removed;” “guar bean” to read “guar,” and “pea (succulent)” to read “pea, succulent.”

11. Phosphine. EPA is proposing to remove the commodity tolerance in 40 CFR 180.225(a)(1) for residues of phospine in or on “pimento;” because this tolerance is covered by the existing tolerance for pepper.

12. Picloram. The Picloram RED was completed in March 1995 and the existing tolerances were reassessed according to the FQPA standard when new tolerances were established on January 5, 1999 (64 FR 418)(FRL-6039-4). Because the tolerances at 3.0 ppm in 40 CFR 180.292(a)(3) for residues of picloram in or on barley, milled fractions (exc flour); oat, milled fractions (exc flour); and wheat, milled fractions (exc flour) are duplicates covered by the tolerances at 3.0 ppm in § 180.292(a)(2), there is no longer a need for them and therefore, EPA is proposing to remove the tolerances in 40 CFR 180.292(a)(3) for residues of picloram in or on barley, milled fractions (exc flour); oat, milled fractions (exc flour); and wheat, milled fractions (exc flour).

Because the time-limited tolerances on aspirated grain fractions, sorghum grain, forage, and stover for indirect or inadvertent residues in 40 CFR 180.292(d) all expired on December 31, 2000, there is no longer a need to codify them in that part. Therefore, EPA is proposing to amend 40 CFR 180.292(d) by removing the text and table of expired tolerances, and reserving the paragraph designation and heading.

Based on the concentration of picloram residues in the aspirated grain fractions of wheat, EPA is proposing to establish tolerances in 40 CFR 180.292(a)(1) for “grain, aspirated fractions” at 4.0 ppm.

In order to conform to current Agency practice, in 40 CFR 180.292(a)(2), EPA is proposing to revise the commodity terminology for “barley, milled fractions (exc flour)” to read “barley, pearled barley;” “oat, milled fractions (exc flour)” to read “oat, groats/rolled oats;” and “wheat, milled fractions (exc flour)” to read “wheat, bran;” “wheat, germ;” “wheat, middlings;” and “wheat, shorts.”

EPA will not take action on the tolerance in 40 CFR 180.292(a)(1) for “grass, forage” or propose to establish a tolerance for “grass, hay” at this time due to label and data issues. However, the Agency intends to clarify these issues with the registrants.

13. Propargite. Based on available data, EPA determined that there is no reasonable expectation of finite residues of propargite in poultry meat and meat byproducts. These tolerances are no longer needed under 40 CFR 180.6(a)(3). Therefore, EPA is proposing to revoke the commodity tolerances in 40 CFR 180.259(a) for residues of propargite in or on “poultry, meat” and “poultry, meat byproducts.” Also, EPA is proposing to revoke the commodity tolerance in 40 CFR 180.259(a) for residues of propargite in or on “citrus, dried pulp” because residues do not concentrate in dried pulp based on a citrus processing study, and therefore the tolerance is no longer needed. In addition, EPA is proposing to revoke the commodity tolerances in 40 CFR 180.259 for residues of propargite in or on “peanut, forage;” “peanut, hay;” and “peanut, hulls” because they are no longer considered to be significant livestock feed commodities and therefore these tolerances are no longer needed.

EPA is proposing to remove the tolerance in § 180.259(a) for “hop” at 15 ppm because the raw agricultural commodity (RAC) for hops is dried hops, whose use is covered by the existing tolerance for “hop, dried cone” at 30 ppm, whose terminology the Agency is proposing to revise to read “hop, dried cones.”

Based on field trial data that show propargite residues as high as 8.3 ppm in or on oranges and 3.8 ppm in or on sorghum grain, the Agency determined that the tolerances should be increased to 10.0 ppm for oranges and decreased to 5.0 for sorghum grain. Therefore, EPA is proposing in 40 CFR 180.259(a) to increase the tolerance for “orange, sweet” from 5 to 10.0 ppm and revise the terminology to read “orange” and decrease the tolerance for “sorghum, grain” from 10 to 5.0 ppm.

Based on HAFT residues of 4 ppm (residue range 1.6 to 8.3 ppm) in oranges and available processing data showing an average concentration factor of 7.0x in orange oil, the Agency determined that a tolerance should be established for propargite on citrus oil at 30 ppm. Therefore, EPA is proposing to establish a tolerance in 40 CFR 180.259(a) for residues of propargite in “citrus, oil” at 30.0 ppm.

Available processing data indicate that propargite residues do not concentrate in aspirated grain fractions of sorghum, but do concentrate in aspirated grain fractions of field corn as high as 0.35 ppm. The Agency determined that a tolerance should be established for aspirated grain fractions at 0.4 ppm. Therefore, EPA is proposing to establish a tolerance in 40 CFR 180.259(a) for residues of propargite in or on “grain, aspirated fractions” at 0.4 ppm.

In order to conform to current Agency practice, in 40 CFR 180.259(a), EPA is proposing to revise the commodity terminology for “corn, forage” to “corn, field, forage” and “corn, sweet, forage;” “corn, grain” to read “corn, field, grain” and “corn, pop, grain;” “mint” to “peppermint, tops” and “spearmint, tops;” and “sorghum, forage” to read “sorghum, grain, forage.”

14. Triclopyr. EPA has determined that the residue which should be regulated in grass and rice commodities and milk, poultry, and eggs is triclopyr per se. The Agency has also determined that the residue which should be regulated in meat and meat byproducts are the combined residues of triclopyr and the metabolite 3,5,6-trichloro-2-pyridinol (TCP). Therefore, EPA is proposing in 40 CFR 180.417(a)(1) to revise the tolerance expression to include residues of triclopyr per se as a result of the application/use of butoxyethyl ester of triclopyr and triethylamine salt of triclopyr. In addition, EPA is proposing to recodify tolerances for “egg,” “milk,” “poultry, fat;” “poultry, meat byproducts, except kidney;” “poultry, meat;” “rice, grain;” and “rice, straw;” from 40 CFR 180.417(a)(2) to § 180.417(a)(1).

Also, EPA is proposing in 40 CFR 180.417(a)(2) to amend the tolerance expression for the combined residues of the herbicide triclopyr ((3,5,6-trichloro-2-pyridinyl)oxy) acetic acid and its metabolite 3,5,6-trichloro-2-pyridinol (TCP) as a result of the application/use of butoxyethyl ester of triclopyr or the triethylamine salt of triclopyr.

Since the time of the Triclopyr RED, the Agency has determined that a proposal by the registrant to increase the tolerance for “grass, forage” from 500 to 700 ppm is acceptable based on available field trial data and pending the amendment of all labels for triclopyr formulations used on pasture and rangeland to specify a maximum application rate of 2 lb. acid equivalents (ae)/A per annual growing season. The dietary risk assessment performed as part of the triclopyr RED supports this increase. The current tolerances on meat commodities are adequate to cover residues that may occur from grazing areas treated at 2 lb. ae/A. Therefore, EPA is proposing in 40 CFR 180.417(a)(1) to increase the tolerance on “grass, forage” to 700.0 ppm. Also, the Agency is proposing to revise the commodity terminology “grass, forage, hay” to read “grass, hay” and decrease the tolerance from 500.0 to 200.0 ppm, based on available data and label amendments.

Since the triclopyr RED was completed in 1997, tolerances were established in 40 CFR 180.417(a)(1) for “fish” and “shellfish” (67 FR 58712, September 18, 2002)(FRL-7196-7).

15. Triphenyltin hydroxide (TPTH). Since TPTH residues of concern in plant and animal commodities have been determined to include TPTH and its monophenyltin (MPTH) and diphenyltin (DPTH) hydroxide and oxide metabolites, EPA is proposing to revise the tolerance definition in 40 CFR 180.236 in terms of the combined residues of TPTH and its MPTH and DPTH hydroxide and oxide metabolites, expressed in terms of parent TPTH.

Based on available ruminant feeding data that indicate combined TPTH-regulated residues as high as 1.15 ppm in kidney and 3.7 ppm in liver, the Agency determined that the appropriate tolerances for kidney and liver of cattle, goats, horses, and sheep are 2.0 and 4.0 ppm, respectively. Therefore, EPA is proposing in 40 CFR 180.236 to increase the tolerances for “cattle, liver;” “goat, liver;” “horse, liver;” and “sheep, liver;” each from 0.05 to 4.0 ppm, “cattle, kidney;” “goat, kidney;” “horse, kidney;” and “sheep, kidney;” each from 0.05 to 2.0 ppm.

Also, because available ruminant feeding data show combined TPTH-regulated residues as high as 0.14 ppm in fat and 0.34 ppm in meat, the Agency determined that the appropriate tolerances should be established for fat and meat of cattle, goats, horses, and sheep at 0.2 ppm and 0.5 ppm, respectively. Moreover, based on non-detectable levels and combined Limit of quantitation (LOQs) of 0.02 ppm for each metabolite, the Agency determined that a tolerance should be established for milk at 0.06 ppm. Therefore, EPA is proposing to establish tolerances in 40 CFR 180.236 for “cattle, fat;” “goat, fat;” “horse, fat;” and “sheep, fat;” each at 0.2 ppm;“cattle, meat;” “goat, meat;” “horse, meat;” and “sheep, meat;” each at 0.5 ppm, and “milk” at 0.06 ppm.

The ruminant feeding data was also used by the Agency to reassess tolerances for swine. EPA determined that tolerances for hog kidney and liver should be increased to 0.3 ppm (the combined LOQs of 0.1 ppm for residues in kidney, liver and fat), and that these separate tolerances should be combined as hog, meat byproducts. In addition, EPA determined that tolerances should also be established for hog fat at 0.3 ppm (the combined LOQs of 0.1 ppm for each metabolite), and in hog meat at 0.06 ppm (the combined LOQs of 0.02 ppm for each metabolite). Therefore, EPA is proposing in 40 CFR 180.236 to revise the commodity tolerances for “hog, kidney” and “hog, liver” at 0.05 ppm into the commodity tolerance “hog, meat byproducts” and increase the tolerance to 0.3 ppm and to establish tolerances for “hog, fat” at 0.3 ppm and “hog, meat” at 0.06 ppm.

Based on available field trial data that show combined TPTH-regulated residues as high as 9.7 ppm, the Agency determined that a tolerance should be established at 10.0 ppm for beet, sugar, tops. Therefore, EPA is proposing to establish a tolerance in 40 CFR 180.236 for “beet, sugar, tops” at 10.0 ppm.

Also, in order to conform to current Agency practice, EPA is proposing in 40 CFR 180.236 to revise the terminology “pecans” to read “pecan.”

B. What is the Agency's Authority for Taking This Action?

A “tolerance” represents the maximum level for residues of pesticide chemicals legally allowed in or on raw agricultural commodities and processed foods. Section 408 of FFDCA, 21 U.S.C. 301 et seq., as amended by the FQPA of 1996, Public Law 104-170, authorizes the establishment of tolerances, exemptions from tolerance requirements, modifications in tolerances, and revocation of tolerances for residues of pesticide chemicals in or on raw agricultural commodities and processed foods (21 U.S.C. 346(a)). Without a tolerance or exemption, food containing pesticide residues is considered to be unsafe and therefore “adulterated” under section 402(a) of the FFDCA. Such food may not be distributed in interstate commerce (21 U.S.C. 331(a) and 342(a)). For a food-use pesticide to be sold and distributed, the pesticide must not only have appropriate tolerances under the FFDCA, but also must be registered under FIFRA (7 U.S.C. et seq.). Food-use pesticides not registered in the United States must have tolerances in order for commodities treated with those pesticides to be imported into the United States.

EPA is proposing these tolerance actions to implement the tolerance recommendations made during the RED and TRED processes, and as follow-up on canceled uses of pesticides. As part of the RED and TRED processes, EPA is required to determine whether each of the amended tolerances meets the safety standards under the FQPA. The safety finding determination is found in detail in each Post-FQPA RED and TRED for the active ingredient. REDs and TREDs propose certain tolerance actions to be implemented to reflect current use patterns, to meet safety findings, and change commodity names and groupings in accordance with new EPA policy. Printed and electronic copies of the REDs and TREDs are available as provided in Unit II.A.

EPA has issued Post-FQPA REDs for Bromoxynil, Diclofop-methyl, Dicofol, Etridiazole, Folpet, Hydramethylnon, Iprodione, Paraquat, Phosphine, Propargite, Triclopyr, and Triphenyltin hydroxide, and TREDs for Diquat and Fenbutatin-oxide, whose REDs were both completed prior to FQPA. EPA also issued a RED prior to FQPA for Picloram and in 1999 made a safety finding which reassessed its tolerances according to the FQPA standard, maintaining them when new tolerances were established as noted in Unit II.A. REDs and TREDs contain the Agency's evaluation of the data base for these pesticides, including requirements for additional data on the active ingredients to confirm the potential human health and environmental risk assessments associated with current product uses, and in REDs contain the Agency's decisions and conditions under which these uses and products will be eligible for reregistration. The REDs and TREDs recommended the establishment, modification, and/or revocation of specific tolerances. RED and TRED recommendations such as establishing or modifying tolerances, require assessment under the FQPA standard of “reasonable certainty of no harm,” and are proposed in those documents under that standard. However, tolerance revocations recommended in REDs and TREDs may be proposed in this document without such assessment when the tolerances are no longer necessary.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of the FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

C. When Do These Actions Become Effective?

EPA is proposing that revocations, modifications, establishments of tolerances, and commodity terminology revisions become effective 90 days following publication of a final rule in the Federal Register to ensure that all affected parties receive notice of EPA's actions. For this rule, the proposed revocations will affect tolerances for uses which have been canceled, in some cases, for many years. The Agency believes that existing stocks of pesticide products labeled for the uses associated with the tolerances proposed for revocation have been completely exhausted and that treated commodities have had sufficient time for passage through the channels of trade. However, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this section, any residues of these pesticides in or on such food shall not render the food adulterated so long as it is shown to the satisfaction of the Food and Drug Administration that:

1. The residue is present as the result of an application or use of the pesticide at a time and in a manner that was lawful under FIFRA.

2. The residue does not exceed the level that was authorized at the time of the application or use to be present on the food under a tolerance or exemption from tolerance. Evidence to show that food was lawfully treated may include records that verify the dates that the pesticide was applied to such food.

D. What Is the Contribution to Tolerance Reassessment?

By law, EPA is required by August 2006 to reassess the tolerances in existence on August 2, 1996. As of July 26, 2004, EPA has reassessed over 6,740 tolerances. Regarding tolerances mentioned in this proposed rule, tolerances in existence at FQPA were previously counted as reassessed at the time of the signature completion of a Post-FQPA RED or TRED for each active ingredient, except for picloram whose tolerances were counted as reassessed via final rulemaking which published in the Federal Register on January 5, 1999 (64 FR 418), as described in Units II.A. and B. Therefore, no further tolerance reassessments would be counted toward the August 2006 review.

III. Are the Proposed Actions Consistent With International Obligations?

The tolerance revocations in this proposal are not discriminatory and are designed to ensure that both domestically-produced and imported foods meet the food safety standards established by the FFDCA. The same food safety standards apply to domestically produced and imported foods.

EPA is working to ensure that the U.S. tolerance reassessment program under FQPA does not disrupt international trade. EPA considers Codex Maximum Residue Limits (MRLs) in setting U.S. tolerances and in reassessing them. MRLs are established by the Codex Committee on Pesticide Residues, a committee within the Codex Alimentarius Commission, an international organization formed to promote the coordination of international food standards. It is EPA's policy to harmonize U.S. tolerances with Codex MRLs to the extent possible, provided that the MRLs achieve the level of protection required under FFDCA. EPA's effort to harmonize with Codex MRLs is summarized in the tolerance reassessment section of individual Reregistration Eligibility Decision documents. EPA has developed guidance concerning submissions for import tolerance support (65 FR 35069, June 1, 2000) (FRL-6559-3). This guidance will be made available to interested persons. Electronic copies are available on the internet at http://www.epa.gov/. On the Home Page select “Laws, Regulations, and Dockets,” then select “Regulations and Proposed Rules” and then look up the entry for this document under “Federal Register—Environmental Documents.” You can also go directly to the “Federal Register” listings at http://www.epa.gov/fedrgstr/.

IV. Statutory and Executive Order Reviews

In this proposed rule, EPA is proposing to establish specific tolerances under FFDCA section 408(e), and to modify and revoke specific tolerances established under FFDCA section 408. The Office of Management and Budget (OMB) has exempted these types of actions (i.e., establishment and modification of a tolerance and tolerance revocation for which extraordinary circumstances do not exist) from review under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations of tolerances might significantly impact a substantial number of small entities and concluded that, as a general matter, these actions do not impose a significant economic impact on a substantial number of small entities. These analyses for tolerance establishments and modifications, and for tolerance revocations were published on May 4, 1981 (46 FR 24950) and on December 17, 1997 (62 FR 66020), respectively, and were provided to the Chief Counsel for Advocacy of the Small Business Administration. Taking into account this analysis, and available information concerning the pesticides listed in this rule, the Agency hereby certifies that this proposed action will not have a significant negative economic impact on a substantial number of small entities. Specifically, as per the 1997 notice, EPA has reviewed its available data on imports and foreign pesticide usage and concludes that there is a reasonable international supply of food not treated with canceled pesticides. Furthermore, for the pesticides named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: July 19, 2004.
James Jones,
Director, Office of Pesticide Programs.

Therefore, it is proposed that 40 CFR part 180 be amended as follows:

PART 180—[AMENDED]

1. The authority citation for part 180 continues to read as follows:

Authority: 21 U.S.C. 321(q), 346a and 371.

2. Section 180.163 is amended by revising the section heading and paragraph (a) to read as follows:

§ 180.163 1, 1-Bis(4-chlorophenyl) -2,2,2- trichloroethanol; tolerances for residues.

(a) General. (1) Tolerances for the combined residues of the insecticide dicofol, 1,1-bis(4-chlorophenyl) -2,2,2-trichloroethanol and 1-(2-chlorophenyl)-1- (4-chlorophenyl) -2,2,2-trichloroethanol in or on raw agricultural commodities are established as follows:

Commodity | Parts per million
Apple, wet pomace | 38.0
Bean, dry, seed | 0.5
Bean, succulent | 3.0
Butternut | 0.1
Caneberry subgroup 13A | 5.0
Chestnut | 0.1
Citrus, dried pulp | 12.0
Citrus oil | 200.0
Cotton, refined oil | 0.5
Cotton, undelinted seed | 0.1
Filbert | 0.1
Fruit, citrus, group 10 | 6.0
Fruit, pome, group 11 | 10.0
Fruit, stone, group 12 | 5.0
Grape | 5.0
Grape, raisin | 20.0
Hop, dried cones | 65.0
Nut, hickory | 0.1
Nut, macadamia | 0.1
Pecan | 0.1
Peppermint, hay | 25.0
Peppermint, oil | 30.0
Spearmint, hay | 25.0
Spearmint, oil | 30.0
Strawberry | 10.0
Tea, dried | 50.0
Tea, plucked leaves | 30.0
Vegetable, cucurbit, group 9 | 2.0
Vegetable, fruiting, group 8 | 2.0
Walnut | 0.1

(2) Tolerances for the combined residues of the insecticide dicofol, 1,1-bis(4-chlorophenyl)-2,2,2- trichloroethanol, 1-(2-chlorophenyl)-1-(4- chlorophenyl)-2,2,2-trichloroethanol, 1,1-bis(4-chlorophenyl) -2,2-dichloroethanol, and 1-(2-chlorophenyl)-1- (4-chlorophenyl)-2,2-dichloroethanol in or on raw agricultural commodities are established as follows:

Commodity | Parts per million
Cattle, fat | 50.0
Cattle, liver | 5.0
Cattle, meat | 3.0
Cattle, meat byproducts, except liver | 3.0
Egg | 0.05
Goat, fat | 50.0
Goat, liver | 5.0
Goat, meat | 3.0
Goat, meat byproducts, except liver | 3.0
Hog, fat | 50.0
Hog, liver | 5.0
Hog, meat | 3.0
Hog, meat byproducts, except liver | 3.0
Horse, fat | 50.0
Horse, liver | 5.0
Horse, meat | 3.0
Horse, meat byproducts, except liver | 3.0
Milk | 22.0
Poultry, fat | 0.1
Poultry, meat | 0.1
Poultry, meat byproducts | 0.1
Sheep, fat | 50.0
Sheep, liver | 5.0
Sheep, meat | 3.0
Sheep, meat byproducts, except liver | 3.0

* * * * *

3. Section 180.191 is amended by revising paragraph (a) and by adding text to paragraph (c) after the paragraph heading to read as follows:

§ 180.191 Folpet; tolerances for residues.

(a) General. Tolerances are established for the fungicide folpet (N-(trichloromethylthio) phthalimide) in or on raw agricultural commodities as follows:

Commodity | Parts per million
Apple¹ | 5.0
Cranberry¹ | 15.0
Cucumber¹ | 2.0
Grape¹ | 50.0
Grape, raisin¹ | 80.0
Hop, dried cones¹ | 120.0
Lettuce¹ | 50.0
Melon¹ | 3.0
Onion, dry bulb¹ | 2.0
Strawberry¹ | 5.0
Tomato¹ | 25.0
¹ No U.S. registrations.

* * * * *

(c) Tolerances with regional registration. Tolerances with regional registrations as defined in § 180.1(n), are established for residues of the fungicide folpet (N-(trichloromethylthio) phthalimide) in or on the following raw agricultural commodity:

Commodity | Parts per million
Avocado | 25.0

* * * * *

4. Section 180.205 is amended by revising the table in paragraph (a) to read as follows:

§ 180.205 Paraquat; tolerances for residues.

(a) * * *

Commodity | Parts per million
Acerola | 0.05
Almond, hulls | 0.5
Animal feed, nongrass, group 18, forage | 75.0
Animal feed, nongrass, group 18, hay | 210.0
Artichoke, globe | 0.05
Asparagus | 0.5
Avocado | 0.05
Banana | 0.05
Barley, grain | 0.05
Barley, straw | 1.0
Bean, dry, seed | 0.3
Bean, lima, succulent | 0.05
Bean, snap, succulent | 0.05
Beet, sugar | 0.5
Beet, sugar, tops | 0.05
Cacao bean | 0.05
Carrot, roots | 0.05
Cattle, fat | 0.05
Cattle, kidney | 0.5
Cattle, meat | 0.05
Cattle, meat byproducts, except kidney | 0.05
Coffee, bean | 0.05
Corn, field, forage | 3.0
Corn, field, grain | 0.1
Corn, field, stover | 10.0
Corn, pop, grain | 0.1
Corn, pop, stover | 10.0
Corn, sweet, kernel plus cob with husks removed | 0.05
Cotton, undelinted seed | 0.5
Cowpea, forage | 0.1
Cowpea, hay | 0.4
Cranberry | 0.05
Cucurbits | 0.05
Egg | 0.01
Endive | 0.05
Fig | 0.05
Fruit, citrus, group 10 | 0.05
Fruit, pome, group 11 | 0.05
Fruit, stone, group 12 | 0.05
Goat, fat | 0.05
Goat, kidney | 0.5
Goat, meat | 0.05
Goat, meat byproducts, except kidney | 0.05
Grape | 0.05
Grass, forage | 90.0
Grass, hay | 40.0
Guar | 0.5
Guava | 0.05
Hog, fat | 0.05
Hog, kidney | 0.5
Hog, meat | 0.05
Hog, meat byproducts, except kidney | 0.05
Hop, dried cones | 0.5
Horse, fat | 0.05
Horse, kidney | 0.5
Horse, meat | 0.05
Horse, meat byproducts, except kidney | 0.05
Kiwifruit | 0.05
Lentil, seed | 0.3
Lettuce | 0.05
Milk | 0.01
Nut | 0.05
Olive | 0.05
Onion, dry bulb | 0.05
Onion, green | 0.05
Papaya | 0.05
Passionfruit | 0.2
Pea, dry, seed | 0.3
Pea, field, hay | 0.8
Pea, field vines | 0.2
Pea, succulent | 0.05
Peanut | 0.05
Persimmon | 0.05
Pineapple | 0.05
Pineapple, process residue | 0.25
Pistachio | 0.05
Potato | 0.5
Rhubarb | 0.05
Rice, grain | 0.05
Rice, straw | 0.06
Safflower, seed | 0.05
Sheep, fat | 0.05
Sheep, kidney | 0.5
Sheep, meat | 0.05
Sheep, meat byproducts, except kidney | 0.05
Sorghum, forage | 0.1
Sorghum, grain | 0.05
Soybean | 0.25
Soybean, forage | 0.03
Soybean, hay | 0.05
Soybean, hulls | 2.0
Strawberry | 0.25
Sugarcane, cane | 0.5
Sugarcane, molasses | 3.0
Sunflower, seed | 2.0
Turnip, greens | 0.05
Turnip, roots | 0.05
Vegetable, brassica, leafy, group 5 | 0.05
Vegetable, fruiting, group 8 | 0.05
Wheat, forage | 0.5
Wheat, grain | 0.05
Wheat, straw | 1.0

* * * * *

§ 180.225 [Amended]

5. Section 180.225 is amended by removing the entry for “pimento” from the table in paragraph (a)(1).

6. Section 180.226 is amended by revising paragraph (a)(1), the tables in paragraph (a)(2)(i) and (a)(3), and by removing paragraph (a)(6) to read as follows:

§ 180.226 Diquat; tolerances for residues.

(a) General. (1) Tolerances are established for residues of the plant growth regulator and herbicide diquat, [6,7-dihydrodipyrido (1,2-a:2′,1′-c) pyrazinediium] derived from application of the dibromide salt and calculated as the cation in or on the following food commodities:

Commodity | Parts per million
Alfalfa, seed | 3.0
Cattle, fat | 0.05
Cattle, meat | 0.05
Cattle, meat byproducts | 0.05
Egg | 0.05
Goat, fat | 0.05
Goat, meat | 0.05
Goat, meat byproducts | 0.05
Hog, fat | 0.05
Hog, meat | 0.05
Hog, meat byproducts | 0.05
Horse, fat | 0.05
Horse, meat | 0.05
Horse, meat byproducts | 0.05
Milk | 0.02
Potato | 0.1
Poultry, fat | 0.05
Poultry, meat | 0.05
Poultry, meat byproducts | 0.05
Sheep, fat | 0.05
Sheep, meat | 0.05
Sheep, meat byproducts | 0.05
Sorghum, grain, grain | 2.0
Soybean, seed | 0.2

(2)(i) * * *

Commodity | Parts per million
Avocado | 0.2
Cotton, undelinted seed | 0.2
Fish | 2.0
Fruit, citrus, group 10 | 0.05
Fruit, pome, group 11 | 0.02
Fruit, small and berry group | 0.05
Fruit, stone, group 12 | 0.02
Grain, cereal, forage, fodder and straw, group 16 | 0.02
Grain, cereal, group 15 | 0.02
Grass, forage, fodder and hay, group 17 | 0.2
Hop, dried cones | 0.2
Nut, tree, group 14 | 0.02
Shellfish | 20.0
Sugarcane, cane | 0.2
Vegetable, brassica, leafy, group 5 | 0.05
Vegetable, cucurbit, group 9 | 0.02
Vegetable, foliage of legume, group 7 | 0.2
Vegetable, fruiting, group 8 | 0.05
Vegetable, leafy, except brassica, group 4 | 0.05
Vegetable, root and tuber, group 1 | 0.02
Vegetable, seed and pod | 0.05

* * * * *

(3) * * *

Commodity | Parts per million
Banana | 0.05
Coffee, bean | 0.05
Soybean, hulls | 0.6

* * * * *

7. Section 180.236 is revised to read as follows:

§ 180.236 Triphenyltin hydroxide; tolerances for residues.

(a) General. Tolerances are established for the combined residues of the fungicide triphenyltin hydroxide (TPTH) and its monophenyltin (MPTH) and diphenyltin (DPTH) hydroxide and oxide metabolites, expressed in terms of parent TPTH, in/on the following raw agricultural commodities:

Commodity | Parts per million
Beet, sugar, roots | 0.05
Beet, sugar, tops | 10.0
Cattle, fat | 0.2
Cattle, kidney | 2.0
Cattle, liver | 4.0
Cattle, meat | 0.5
Goat, fat | 0.2
Goat, kidney | 2.0
Goat, liver | 4.0
Goat, meat | 0.5
Hog, fat | 0.3
Hog, meat | 0.06
Hog, meat byproducts | 0.3
Horse, fat | 0.2
Horse, kidney | 2.0
Horse, liver | 4.0
Horse, meat | 0.5
Milk | 0.06
Pecan | 0.05
Potato | 0.05
Sheep, fat | 0.2
Sheep, kidney | 2.0
Sheep, liver | 4.0
Sheep, meat | 0.5

(b) Section 18 emergency exemptions. [Reserved]

(c) Tolerances with regional registrations. [Reserved]

(d) Indirect or inadvertent residues. [Reserved]

8. Section 180.259 is amended by revising the table in paragraph (a) to read as follows:

§ 180.259 Propargite; tolerances for residues.

(a) * * *

Commodity | Parts per million
Almond | 0.1
Almond, hulls | 55.0
Bean, dry, seed | 0.2
Cattle, fat | 0.1
Cattle, meat | 0.1
Cattle, meat byproducts | 0.1
Citrus, oil | 30.0
Corn, field, forage | 10.0
Corn, field, grain | 0.1
Corn, pop, grain | 0.1
Corn, stover | 10.0
Corn, sweet, forage | 10.0
Cotton, undelinted seed | 0.1
Egg | 0.1
Goat, fat | 0.1
Goat, meat | 0.1
Goat, meat byproducts | 0.1
Grain, aspirated fractions | 0.4
Grapefruit | 5.0
Grape | 10.0
Hog, fat | 0.1
Hog, meat | 0.1
Hog, meat byproducts | 0.1
Hop, dried cones | 30.0
Horse, fat | 0.1
Horse, meat | 0.1
Horse, meat byproducts | 0.1
Lemon | 5.0
Milk, fat (0.08 ppm in milk) | 2.0
Nectarine | 4.0
Orange | 10.0
Peanut | 0.1
Peppermint, tops | 50.0
Poultry, fat | 0.1
Potato | 0.1
Sheep, fat | 0.1
Sheep, meat | 0.1
Sheep, meat byproducts | 0.1
Sorghum, grain | 5.0
Sorghum, grain, forage | 10.0
Sorghum, grain, stover | 10.0
Spearmint, tops | 50.0
Tea, dried | 10.0
Walnut | 0.1

* * * * *

9. Section 180.292 is amended by revising the tables in paragraphs (a)(1) and (2) and by removing the text from paragraph (d) and reserving the paragraph designation and heading to read as follows:

§ 180.292 Picloram; tolerances for residues.

(a) * * * (1) * * *

Commodity | Parts per million
Barley, grain | 0.5
Barley, straw | 1.0
Cattle, fat | 0.2
Cattle, kidney | 5.0
Cattle, liver | 0.5
Cattle, meat | 0.2
Cattle, meat byproducts, except kidney and liver | 0.2
Egg | 0.05
Goat, fat | 0.2
Goat, kidney | 5.0
Goat, liver | 0.5
Goat, meat | 0.2
Goat, meat byproducts, except kidney and liver | 0.2
Grain, aspirated fractions | 4.0
Grass, forage | 80.0
Hog, fat | 0.2
Hog, kidney | 5.0
Hog, liver | 0.5
Hog, meat | 0.2
Hog, meat byproducts, except kidney and liver | 0.2
Horse, fat | 0.2
Horse, kidney | 5.0
Horse, liver | 0.5
Horse, meat | 0.2
Horse, meat byproducts, except kidney and liver | 0.2
Milk | 0.05
Oat, forage | 1.0
Oat, grain | 0.5
Oat, straw | 1.0
Poultry, fat | 0.05
Poultry, meat | 0.05
Poultry, meat byproducts | 0.05
Sheep, fat | 0.2
Sheep, kidney | 5.0
Sheep, liver | 0.5
Sheep, meat | 0.2
Sheep, meat byproducts, except kidney and liver | 0.2
Wheat, forage | 1.0
Wheat, grain | 0.5
Wheat, straw | 1.0

(2) * * *

Commodity | Parts per million
Barley, pearled barley | 3.0
Oat, groats/rolled oats | 3.0
Wheat, bran | 3.0
Wheat, germ | 3.0
Wheat, middlings | 3.0
Wheat, shorts | 3.0

* * * * *

(d) Indirect or inadvertent residues. [Reserved]

10. Section 180.324 is amended by revising the table in paragraph (a)(1) and by removing the text and table from paragraph (b) and reserving the paragraph designation and heading to read as follows:

§ 180.324 Bromoxynil; tolerances for residues.

(a) * * * (1) * * *

Commodity | Parts per million
Alfalfa, forage | 0.1
Alfalfa, hay | 0.5
Barley, grain | 0.05
Barley, hay | 9.0
Barley, straw | 4.0
Corn, field, forage | 0.3
Corn, field, grain | 0.05
Corn, field, stover | 0.2
Corn, pop, grain | 0.05
Corn, pop, stover | 0.2
Flax, seed | 0.1
Garlic | 0.1
Grain, aspirated fractions | 0.3
Grass, forage | 3.0
Grass, hay | 3.0
Oat, forage | 0.3
Oat, grain | 0.05
Oat, hay | 9.0
Oat, straw | 4.0
Onion, dry bulb | 0.1
Peppermint, hay | 0.1
Rye, forage | 1.0
Rye, grain | 0.05
Rye, straw | 2.0
Sorghum, grain | 0.05
Sorghum, grain, forage | 0.5
Sorghum, grain, stover | 0.2
Spearmint, hay | 0.1
Wheat, forage | 1.0
Wheat, grain | 0.05
Wheat, hay | 4.0
Wheat, straw | 2.0

* * * * *

(b) Section 18 emergency exemptions. [Reserved]

* * * * *

11. Section 180.362 is amended by revising paragraph (a) to read as follows:

§ 180.362 Hexakis (2-methyl-2-phenylpropyl)distannoxane; tolerances for residues.

(a) General. (1) Tolerances are established for residues of hexakis (2-methyl-2-phenylpropyl) distannoxane in or on the following raw agricultural commodities:

Commodity | Parts per million
Almond, hulls | 80.0
Apple | 15.0
Apple, wet pomace | 100.0
Cherry, sweet | 6.0
Cherry, tart | 6.0
Citrus, dried pulp | 100.0
Citrus, oil | 140.0
Cucumber | 4.0
Eggplant | 6.0
Fruit, citrus, group 10 | 20.0
Grape | 5.0
Grape, raisin | 20.0
Nut, tree, group 14 | 0.5
Papaya | 2.0
Peach | 10.0
Pear | 15.0
Plum, prune, fresh | 4.0
Plum, prune, dried | 20.0
Strawberry | 10.0

(2) Tolerances are established for the combined residues of hexakis (2-methyl-2-phenylpropyl) distannoxane and its organotin metabolites dihydroxybis(2-methyl-2- phenylpropyl)stannane, and 2-methyl-2-phenylpropylstannoic acid in or on the following raw agricultural commodities:

Commodity | Parts per million
Cattle, fat | 0.5
Cattle, meat | 0.5
Cattle, meat byproducts | 0.5
Egg | 0.1
Goat, fat | 0.5
Goat, meat | 0.5
Goat, meat byproducts | 0.5
Hog, fat | 0.5
Hog, meat | 0.5
Hog, meat byproducts | 0.5
Horse, fat | 0.5
Horse, meat | 0.5
Horse, meat byproducts | 0.5
Milk, fat | 0.1
Poultry, fat | 0.1
Poultry, meat | 0.1
Poultry, meat byproducts | 0.1
Sheep, fat | 0.5
Sheep, meat | 0.5
Sheep, meat byproducts | 0.5

* * * * *

12. Section 180.370 is amended by revising the table in paragraph (a) to read as follows:

§ 180.370 5-Ethoxy-3-(trichloromethyl)-1,2,4-thiadiazole; tolerances for residues.

(a) * * *

Commodity | Parts per million
Barley, grain | 0.1
Barley, hay | 0.1
Corn, field, forage | 0.1
Corn, field, grain | 0.1
Corn, field, stover | 0.1
Corn, sweet, forage | 0.1
Corn, sweet, stover | 0.1
Cotton, gin byproducts | 0.1
Cotton, undelinted seed | 0.1
Peanut | 0.1
Safflower, seed | 0.1
Sorghum, grain, forage | 0.1
Sorghum, grain, grain | 0.1
Tomato¹ | 0.15
Vegetable, foliage of legume, group 7 | 0.1
Vegetable, legume, group 6 | 0.1
Wheat, forage | 0.1
Wheat, grain | 0.1
Wheat, straw | 0.1
¹ No U.S. registrations since the mid-1980s.

* * * * *

§ 180.385 [Amended]

13. Section 180.385 is amended by removing from the table in paragraph (a) the entries for “lentil, seed” and “pea seeds (dry)”.

14. Section 180.395 is amended by revising the table in paragraph (a) to read as follows:

§ 180.395 Hydramethylnon; tolerances for residues.

* * *

Commodity | Parts per million
Grass, forage | 2.0
Grass, hay | 2.0
Pineapple | 0.05

* * * * *

15. Section 180.399 is amended by revising the tables in paragraph (a)(1) and (a)(2) to read as follows:

§ 180.399 Iprodione; tolerances for residues.

(a) * * * (1) * * *

Commodity | Parts per million
Almond | 0.3
Almond, hulls | 2.0
Apricot | 0.2
Bean, dry, seed | 2.0
Bean, succulent | 2.0
Blueberry | 15.0
Broccoli | 25.0
Caneberry subgroup 13A | 25.0
Carrot, roots | 5.0
Cherry, sweet | 0.2
Cherry, tart | 0.2
Cotton, undelinted seed | 0.1
Currant | 15.0
Garlic | 0.1
Ginseng, root | 4.0
Grape | 10.0
Grape, raisin | 15.0
Kiwifruit | 10.0
Lettuce | 25.0
Nectarine | 0.2
Onion, dry bulb | 0.5
Peach | 0.05
Peanut | 0.5
Plum | 0.2
Plum, prune, fresh | 0.2
Potato | 0.5
Rice, bran | 30.0
Rice, grain | 10.0
Rice, hulls | 50.0
Rice, straw | 20.0
Strawberry | 0.5

(2) * * *

Commodity | Parts per million
Cattle, fat | 0.5
Cattle, meat | 0.5
Cattle, meat byproducts | 3.0
Egg | 1.5
Goat, fat | 0.5
Goat, meat | 0.5
Goat, meat byproducts | 3.0
Hog, fat | 0.5
Hog, meat | 0.5
Hog, meat byproducts | 3.0
Horse, fat | 0.5
Horse, meat | 0.5
Horse, meat byproducts | 3.0
Milk | 0.5
Poultry, fat | 7.0
Poultry, meat | 1.0
Poultry, meat byproducts | 7.0
Sheep, fat | 0.5
Sheep, meat | 0.5
Sheep, meat byproducts | 3.0

* * * * *

16. Section 180.417 is amended by revising paragraph (a) to read as follows:

§ 180.417 Triclopyr; tolerances for residues.

(a) General. (1) Tolerances for residues of the herbicide triclopyr per se, as a result of the application/use of butoxyethyl ester of triclopyr and triethyylamine salt of triclopyr, are established in or on the following raw agricultural commodities:

Commodity | Parts per million
Egg | 0.05
Fish | 3.0
Grass, forage | 700.0
Grass, hay | 200.0
Milk | 0.01
Poultry, fat | 0.1
Poultry, meat | 0.1
Poultry, meat byproducts, except kidney | 0.1
Rice, grain | 0.3
Rice, straw | 10.0
Shellfish | 3.5

(2) Tolerances for the combined residues of the herbicide triclopyr ((3,5,6-trichloro-2-pyridinyl) oxy) acetic acid and its metabolite 3,5,6-trichloro-2-pyridinol (TCP), as a result of the application/use of butoxyethyl ester of triclopyr or the triethylamine salt of triclopyr, are established in or on the following raw agricultural commodities:

Commodity | Parts per million
Cattle, fat | 0.05
Cattle, kidney | 0.5
Cattle, liver | 0.5
Cattle, meat | 0.05
Cattle, meat byproducts, except kidney and liver | 0.05
Goat, fat | 0.05
Goat, kidney | 0.5
Goat, liver | 0.5
Goat, meat | 0.05
Goat, meat byproducts, except kidney and liver | 0.05
Hog, fat | 0.05
Hog, kidney | 0.5
Hog, liver | 0.5
Hog, meat | 0.05
Hog, meat byproducts, except kidney and liver | 0.05
Horse, fat | 0.05
Horse, kidney | 0.5
Horse, liver | 0.5
Horse, meat | 0.05
Horse, meat byproducts, except kidney and liver | 0.05
Sheep, fat | 0.05
Sheep, kidney | 0.5
Sheep, liver | 0.5
Sheep, meat | 0.05
Sheep, meat byproducts, except kidney and liver | 0.05

* * * * *

[FR Doc. 04-17508 Filed 8-3-04; 8:45 am]

BILLING CODE 6560-50-S